DEPARTMENT OF LABOR

Employment and Training Administration

[TA-W-52,972]

Exfo Gnubi Products Group, Inc., Now Known as Exfo America, Inc., Gnubi Communications, L.P., Gnubi Commumications, Inc., Addison, TX; Amended Certification Regarding Eligibility To Apply for Worker Adjustment Assistance

In accordance with section 223 of the Trade Act of 1974 (19 U.S.C. 2273) the Department of Labor issued a Certification of Eligibility to Apply for Worker Adjustment Assistance on October 17, 2003, applicable to workers of Exfo Gnubi Products Group, Inc., Addison, Texas. The notice was published in the Federal Register on November 6, 2003 (68 FR 62834). The certification was amended on November 21, 2003, to reflect that workers wages were reported under two separated unemployment insurance (UI) tax accounts for Gnubi Communications, L.P. and Gnubi Communications, Inc. The notice was published in the Federal Register on December 29, 2003 (68 FR 74973).

At the request of the State agency, the Department reviewed the certification for workers of the subject firm. The workers are engaged in the production of telecommunications test equipment.

New information shows that during 2003, Exfo Gnubi Products Group, Inc. was consolidated into Exfo America, Inc. and is now known as Exfo America, Inc. Workers separated from employment at the subject firm had their wages reported under a separate unemployment insurance (UI) tax account for Exfo America, Inc.

Accordingly, the Department is amending the certification to properly reflect this matter.

The intent of the Department's certification is to include all workers of Exfo Gnubi Products Group, Inc., Addison, Texas who were adversely affected by a shift in production of telecommunications test equipment to Canada.

The amended notice applicable to TA-W-52,972 is hereby issued as follows:

All workers of Exfo Gnubi Products Group, Inc., now known as Exfo America, Inc., Gnubi Communications, L.P., and Gnubi Communications, Inc., Addison, Texas, who became totally or partially separated from employment on or after September 9, 2002, through October 17, 2005, are eligible to apply for adjustment assistance under section 223 of the Trade Act of 1974.

Signed in Washington, DC this 6th day of February, 2004.
Richard Church,
Certifying Officer, Division of Trade Adjustment Assistance.

[FR Doc. 04-4970 Filed 3-4-04; 8:45 am]

BILLING CODE 4510-30-P